FEDERAL EMERGENCY MANAGEMENT AGENCY

44 CFR Part 67

[Docket No. FEMA-D-7530]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street, SW., Washington, DC 20472, (202) 646-3461, or (e-mail) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Acting Executive Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
FLORIDA
Charlotte County
Auburn Waterway | At the confluence with Pellam Waterway | None | *8 | Charlotte County (Unincorporated Areas)
| At Hillsborough Boulevard | None | *12 |
Broad Creek | At the upstream side of Copley Drive | None | *8/9 | Charlotte County
| Approximately 1 mile upstream of Airport Road | None | *12 | (Unincorporated Areas)
Broad Creek Tributary | At the confluence with Broad Creek | *8 | *10 | Charlotte County
| Just upstream of Piper Road | None | *23 | (Unincorporated Areas)
Courtland Waterway | At the confluence with Auburn Waterway | None | *8 | Charlotte County (Unincorporated Areas)
| At Hillsborough Boulevard | None | *13 |
Crestview-Lionheart | At the confluence with Crestview Waterway | None | *16 | Charlotte County (Unincorporated Areas)
Connector Waterway | At divergence from Lionheart Waterway | None | *16 |
Crestview Waterway | At the confluence with West Spring Lake | None | *9 | Charlotte County (Unincorporated Areas)
| At Hillsborough Boulevard | None | *16 |
Delavan Waterway | At the confluence with Fordham Waterway | None | *21 | Charlotte County (Unincorporated Areas)
| Approximately 475 feet upstream of Comstock Boulevard | None | *21 |
Elkcam Waterway | Approximately 1,900 feet upstream of U.S. Route 41 | None | *9 | Charlotte County (Unincorporated Areas)
| Approximately 1.2 miles upstream of Peachland Boulevard | None | *19 |
Fordham Waterway | Approximately 1,750 feet upstream of U.S. Route 41 | None | *9 | Charlotte County (Unincorporated Areas)
| Approximately 1.0 mile upstream of Peachland Boulevard | None | *21 |
Kings Highway East Outfall | At the downstream side of Westchester Boulevard | None | *9 | Charlotte County (Unincorporated Areas)
| Approximately 780 feet upstream of Suncoast Boulevard | None | *13 |
Kings Highway West Outfall | Approximately 150 feet upstream of Westchester Boulevard | *9 | *10 | Charlotte County (Unincorporated Areas)
| Approximately 1,080 feet upstream of MacDougall Avenue | None | *16 |
Lionheart Waterway | At the county boundary | None | *19 | Charlotte County
| Approximately 170 feet upstream of U.S. Route 41 | None | *9 | (Unincorporated Areas)
Newgate Waterway | Approximately 1.2 miles upstream of the confluence with Early Waterway | None | *8 | Charlotte County (Unincorporated Areas)
| Approximately 2.2 miles upstream of Jenning's Boulevard | None | *10 |
Niagara Waterway | At the confluence with Fordham Waterway | None | *9 | Charlotte County (Unincorporated Areas)
| At Peachland Boulevard | None | *19 |
Pellam Waterway | Approximately 2.1 miles upstream of Holly Avenue | None | *8 | Charlotte County (Unincorporated Areas)
| At Hillsborough Boulevard | None | *14 |
Pelton Circle Waterway | At the confluence with Crestview Waterway | None | *16 | Charlotte County (Unincorporated Areas)
| Approximately 0.5 mile upstream of confluence with Crestview Waterway | None | *16 |
Rampart Outfall | Approximately 0.3 mile upstream of Harborview Road | None | *9 | Charlotte County (Unincorporated Areas)
| Just upstream of Rampart Boulevard | None | *22 |
Sunset Waterway | At the confluence with Lionheart Waterway | None | *13 | Charlotte County (Unincorporated Areas)
| At County boundary | None | *20 |
Yale Waterway | At the confluence with Fordham Waterway | None | *13 | Charlotte County (Unincorporated Areas)
| Approximately 475 feet upstream of Sheehan Boulevard | None | *14 |
Gulf of Mexico | Approximately 1,200 feet southwest of the intersection of Gulf Boulevard and South Gulf Boulevard | *17 | *16 | Charlotte County (Unincorporated Areas)
| Approximately 200 feet east of the intersection of County Route 775 and Cap Haza Drive | *11 | *10 |
Charlotte County (Unincorporated Area)
Maps available for inspection at the Charlotte County Community Development, Charlotte County Administration Building, 18500 Murdock Circle, Port Charlotte, Florida
Send comments to Ms. Pamela Brangaccio, Charlotte County Administrator, 18500 Murdock Circle, Port Charlotte, Florida 33948.
WISCONSIN
Winnebago County
Arrowhead River | Approximately 300 feet upstream of County Highway M | *750 | *751 | Winnebago County (Unincorporated Areas)
| Approximately 7,650 feet upstream of Woodland Road | *755 | *757 |
Wolf River | Approximately 1.7 miles upstream of mouth at Lake Poygan | *750 | *751 | Winnebago County (Unincorporated Areas)
| At County boundary | *754 | *753 |
Mud Creek. | Approximately 250 feet downstream of county boundary | *743 | *744 | Winnebago County (Unincorporated Areas)
| At County boundary | *743 | *744 |
Eight Mile Creek | At the confluence with Rush Creek | None | *817 | Winnebago County
| Approximately 2,000 feet upstream of Knott Road | *843 | *844 | (Unincorporated Areas)
Rush Creek | At upstream side of State Highway 116 | None | *780 | Winnebago County
| At the confluence of Eight Mile Creek | None | *817 | (Unincorporated Areas)
Sawyer Creek | Downstream side of North Westfield Street | *754 | *753 | Winnebago County (Unincorporated Areas)
| Approximately 1.2 miles upstream of Clairville Road | None | *811 | Oshkosh
Rush Lake | Entire shoreline within community | None | *823 | Winnebago County (Unincorporated Areas)
Waukau Creek | At the confluence of Eight Mile Creek | None | *817 | Winnebago County
| Approximately 1.8 miles upstream of confluence of Eight Mile Creek | None | *818 | (Unincorporated Areas)
Winnebago County (Unincorporated Areas)
Maps available for inspection at the Winnebago County Zoning Office, 448 Algoma Boulevard, Oshkosh, Wisconsin.
Send comments to Ms. Jane Van De Hey, Winnebago County Executive, P.O. Box 2808, Oshkosh, Wisconsin 54901.
City of Oshkosh
Maps available for inspection at the Oshkosh City Hall. 215 Church Avenue, Oshkosh, Wisconsin.
Send comments to The Honorable Jon Dell'Antonia, Mayor of the City of Oshkosh, 215 Church Avenue, Oshkosh, Wisconsin 54903.

(Catalog of Federal Domestic Assistance No. 83.100, “Flood Insurance.”)
Dated: May 15, 2002.
Robert F. Shea,
Acting Administrator, Federal Insurance and Mitigation Administration.

[FR Doc. 02-12651 Filed 5-20-02; 8:45 am]

BILLING CODE 6718-04-P